DEPARTMENT OF ENERGY

Federal Energy Regulatory Commission

[Docket No. RP00-337-000]

Kern River Gas Transmission Company; Notice of Technical Conference

September 28, 2000.

On June 15, 2000, Kern River Gas Transmission Company (Kern River) filed in compliance with Order No. 637. Several parties have protested various aspects of Kern River's filing.

Take notice that the technical conference to discuss the various issues raised by Kern River's filing will be held on Thursday, October 12, 2000, at 9:30 am, in a room to be designated at the offices of the Federal Energy Regulatory Commission, 888 First Street, NE, Washington, D.C. 20426. Parties protesting aspects of Kern River's filing should be prepared to discuss alternatives.

All interested persons and Staff are permitted to attend.

David P. Boergers,
Secretary.

[FR Doc. 00-25412 Filed 10-3-00; 8:45 am]

BILLING CODE 6717-01-M